DEPARTMENT OF HOMELAND SECURITY

Transportation Security Administration

Extension of Agency Information Collection Activity Under OMB Review: TSA Customer Comment Card

AGENCY: Transportation Security Administration, DHS.

ACTION: 30-Day Notice.

SUMMARY: This notice announces that the Transportation Security Administration (TSA) has forwarded the Information Collection Request (ICR), Office of Management and Budget (OMB) control number 1652-0030, abstracted below to OMB for review and approval of an extension of the currently approved collection under the Paperwork Reduction Act (PRA). The ICR describes the nature of the information collection and its expected burden. TSA published a Federal Register notice, with a 60-day comment period soliciting comments, of the following collection of information on January 23, 2013 (78 FR 4856). This collection allows customers to provide feedback to TSA about their experiences with TSA's airport security process and procedures while traveling.

DATES: Send your comments by July 22, 2013. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974.

FOR FURTHER INFORMATION CONTACT: Susan L. Perkins, TSA PRA Officer, Office of Information Technology (OIT), TSA-11, Transportation Security Administration, 601 South 12th Street, Arlington, VA 20598-6011; telephone (571) 227-3398; email TSAPRA@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: TSA Customer Comment Card.

Type of Request: Revision of a currently approved collection.

OMB Control Number: 1652-0030.

Forms(s): NA.

Affected Public: Travelling public.

Abstract: 1652-0030; TSA Customer Comment Card. This renewal continues a voluntary program for airport passengers to provide feedback to TSA regarding their experiences with TSA security procedures. This collection of information allows TSA to evaluate and address customer concerns about security procedures and policies.

TSA Customer Comment Cards collect feedback, and the passenger may voluntarily provide contact information. TSA may use the contact information to respond to the passenger's comments. For passengers who deposit their cards in the designated drop-boxes, TSA staff at airports collect the cards, categorize comments, enter the results into an online system for reporting, and respond to passengers as appropriate. Passengers also have the option to mail the cards directly to the address provided on the comment card, which varies by airport.

In addition, the TSA Contact Center will continue to be available for passengers to make comments independently of airport involvement via the Talk to TSA internet application on the TSA Web site at www.tsa.gov. Talk to TSA is an electronic form of the comment card intended for the same purpose, to allow passengers to provide feedback to TSA regarding their experiences with TSA security procedures. The information obtained from the electronic version (Talk to TSA) will also allow TSA to evaluate and address customer concerns about security procedures and policies with an electronic interface. Additionally, one selection within the Talk to TSA application will enable the user to file Civil Rights and Liberties complaints.

Following the January 23, 2013, publication of the 60-day notice in the Federal Register (78 FR 4856), TSA reevaluated the estimated number of respondents and burden hours. The resultant estimates are based on current response levels via the TSA Customer Comment Card, calls and emails to the TSA Customer Contact Center, and submissions to the Office of Civil Rights and Liberties.

Number of Respondents: An estimated 320,762 respondents annually.

Estimated Annual Burden Hours: An estimated 26,998 hours annually.

Dated: June 14, 2013.
Susan L. Perkins,
TSA Paperwork Reduction Act Officer, Office of Information Technology.

[FR Doc. 2013-14872 Filed 6-20-13; 8:45 am]

BILLING CODE 9110-05-P